DEPARTMENT OF COMMERCE

Foreign-Trade Zones Board

[B-7-2023]

Foreign-Trade Zone (FTZ) 129—Bellingham, Washington, Notification of Proposed Production Activity Corvus Energy USA, Ltd. (Lithium-Ion Battery Energy Storage Systems), Bellingham, Washington

Corvus Energy USA, Ltd. submitted a notification of proposed production activity to the FTZ Board (the Board) for its facility in Bellingham, Washington, within Subzone 129C. The notification conforming to the requirements of the Board's regulations (15 CFR 400.22) was received on January 12, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is lithium-ion battery energy storage systems used for marine applications (duty rate, 3.4%).

The proposed foreign-status materials and components include: polyester adhesive backed label; sheeting (plank foam); polyethylene bag; polyester burst disc cover; clip (polycarbonate); pin drive rivet (polycarbonate); steel screw; thread forming screw (steel, zinc plating); steel nut with zinc plating; iron or steel flat washer; zinc tape; lithium-ion battery cell (3.7 volts); air cooled heat sink (aluminum) for lithium-ion battery modules; aluminum casting plate, battery module enclosure; plastic carrier connector and tabs for lithium-ion battery modules and or cells; end cell of plastic carrier assembly for lithium-ion battery modules and or cells; cover assembly battery module enclosure (steel); bus bar (copper); printed circuit board assembly; plastic housing connector; wire harness; graphite heat transfer sheet; plexiglas status light; printed circuit board assembly with temperature sensors; and, printed circuit board assembly for optical communication between batteries and master control (duty rate ranges from duty-free to 8.5%). The request indicates that certain materials/components are subject to duties under section 301 of the Trade Act of 1974 (section 301) and section 232 of the Trade Expansion Act of 1962 (Section 232), depending on the country of origin. The applicable section 301 and section 232 decisions require subject merchandise to be admitted to FTZs in privileged foreign status (19 CFR 146.41).

Public comment is invited from interested parties. Submissions shall be addressed to the Board's Executive Secretary and sent to: ftz@trade.gov. The closing period for their receipt is March 6, 2023.

A copy of the notification will be available for public inspection in the “Online FTZ Information System” section of the Board's website.

For further information, contact Diane Finver at Diane.Finver@trade.gov.

Dated: January 20, 2023.
Elizabeth Whiteman,
Acting Executive Secretary.

[FR Doc. 2023-01475 Filed 1-24-23; 8:45 am]

BILLING CODE 3510-DS-P